NEIGHBORHOOD REINVESTMENT CORPORATION

Sunshine Act Meetings

TIME AND DATE: 2:00pm, Thursday, June 26, 2025

PLACE: 1255 Union Street NE, Suite 500, Washington, DC 20002

STATUS: Parts of this meeting will be open to the public. The rest of the meeting will be closed to the public.

MATTERS TO BE CONSIDERED:

Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Action Item: Election of Acting Comptroller Rodney Hood as Temporary Board Chair

III. Action Item: Sunshine Act Approval of Notice to proceed without one-week notice

IV. Action Item: Sunshine Act Approval of Executive (Closed) Session

V. Executive Session: CEO Report

VI. Executive Session: CFO Report

VII. Executive Session: General Counsel Report

VIII. Executive Session: CIO Report

IX. Action Item: Approval of Meeting Minutes for March 25 Audit Committee Meeting; April 14 Special Board Meeting; April 15 Regular Board Meeting

X. Action Item: Resolutions of Recognition of Service for former Board Members NCUA Board Member Otsuka, FRB Governor Cook, and OCC Senior Deputy Comptroller Gardineer

XI. Action Item: Grants to Capital Corporations

XII. Discussion Item: Annual Ethics Review

XIII. Discussion Item: Governance Operations Guide Annual Review

XIV. Discussion Item: Election of Board Chair and Board Vice Chair

XV. Discussion Item: Appointment of Audit Committee Members

XVI. Discussion Item: Capital Corporations Master Investment Agreement

XVII. Discussion Item: Support from CapitalOne for NWCompass and Professional Learning & Event Management Solution (PLEMS)

XVIII. Discussion Item: Management Program Background and Updates

a. 2025 Board Calendar

b. 2025 Board Agenda Planner

c. CFO Report

i. Financials (through 3/31/25)

ii. Single Invoice Approvals $100K and over

iii. Vendor Payments $350K and over

iv. Exceptions

d. Programs Dashboard

e. Housing Stability Counseling Program (HSCP)

f. Strategic Plan Scorecard—FY25 Q2

PORTIONS OPEN TO THE PUBLIC: Everything except the Executive (Closed) Session

PORTIONS CLOSED TO THE PUBLIC: Executive (Closed) Session

CONTACT PERSON FOR MORE INFORMATION: Jenna Sylvester, Paralegal, (202) 568-2560; jsylvester@nw.org.

Jenna Sylvester,
Paralegal.

[FR Doc. 2025-11988 Filed 6-25-25; 4:15 pm]

BILLING CODE 7570-01-P